DEPARTMENT OF COMMERCE

[I.D. 112604C]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Coastal Zone Management Program Administration.

Form Number(s): None.

OMB Approval Number: 0648-0119.

Type of Request: Regular submission.

Burden Hours: 9,361.

Number of Respondents: 35.

Average Hours Per Response: Performance Reports 27 hours; Assessment and Strategy 240 hours; 306A documentation - 5 hours; Amendments and Routine Program Changes 8 hours; and 6217 Nonpoint Pollution Control Program 150 hours.

Needs and Uses: Coastal zone management grants provide funds to states and territories to implement federally approved coastal management plans, revise assessment document and multi-year strategy, submit Section 306A documentation on the approved coastal zone management plans, submit requests to approve amendments or program changes, and to complete the state's coastal nonpoint source pollution program.

Affected Public: State, local or tribal government.

Frequency: On occasion, semi-annually, annually.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: November 23, 2004.
Gwellnar Banks,
Management Analyst, Office of the Chief Information Officer.

[FR Doc. 04-26513 Filed 11-30-04; 8:45 am]

BILLING CODE 3510-JE-S